Proclamation 10542 of March 31, 2023

National Cancer Control Month, 2023

By the President of the United States of America

A Proclamation

Cancer has touched nearly every American family, and it remains the second leading cause of death in the United States. During National Cancer Control Month, we call on all Americans to join our movement to end cancer as we know it. By raising awareness of the risk factors, promoting life-saving regular screenings, investing in research, and expanding access to affordable treatment, we can give patients, survivors, and their families the hope and new beginnings they deserve.

We have made enormous progress in the half-century since our country first declared war on cancer. We have learned it is not a single disease but, in fact, over 200 different types of cancers caused by different genetic mutations. We have discovered life-saving prevention and early detection measures, new medicines, and innovative therapies, slashing the death rate by a third since 1991. But despite all that progress, cancer still claims the lives of over 600,000 Americans a year. And for many communities of color, the mortality rates are far worse, with Black Americans facing the highest mortality rate of any racial and ethnic group for all cancers combined and for most major cancers. Patients and their loved ones are still overwhelmed by a flood of unfamiliar information; worried about how they will pay for treatment; and awash in bewilderment, frustration, and fear. And those who have lost someone have often lost a piece of their soul.

I am more confident than ever, though, that we can change things. Last year, as part of the Unity Agenda that I outlined during my State of the Union Address, the First Lady and I reignited the Cancer Moonshot initiative that President Barack Obama first asked me to lead in 2016. We have set a new goal to cut America's cancer death rate by half in the next 25 years, turning more cancers from death sentences into treatable diseases and creating a more supportive experience for patients and families. As a first step, I established the Advanced Research Projects Agency for Health, securing $2.5 billion in bipartisan funding from the Congress to develop breakthroughs in preventing, diagnosing, and treating cancer and other deadly diseases. This will pioneer partnerships to get those breakthroughs to the clinic. Additionally, I signed an Executive Order that will require biotechnology to be made in America, preserving access to lifesaving medications and making sure we lead the world in biotech innovation.

Improving treatment options is only part of the fight—we also need to make those treatments more affordable for everyone. To that end, the American Rescue Plan expanded the Affordable Care Act, which requires insurers to pay for cancer screenings and primary care visits and to cover cancer survivors and others who have preexisting conditions. We are working to make sure insurers cover patient navigation services, too, to help patients, caregivers, and families through screening, diagnosis, treatment, and survival. Meanwhile, the Inflation Reduction Act will cap out-of-pocket drug costs for seniors on Medicare at $2,000 per year. This is a gamechanger for cancer patients in particular, whose medicines can currently cost seven times that. And the Honoring our PACT Act is ensuring that veterans exposed to cancer-causing toxic substances during their military service get the health care and benefits that they have earned.

More than a third of all cancer cases are preventable, so my Administration is working to reduce people's exposure to risk factors. That starts with tackling the top cause of cancer deaths in this country: smoking. The Food and Drug Administration has proposed rules to ban menthol cigarettes and flavored cigars, which could prevent hundreds of thousands of deaths. For help quitting or avoiding smoking in the first place, visit SmokeFree.gov, call 1-800-QUIT-NOW, or text QUITNOW to 333888.

We are also making it easier for Americans to adopt healthy eating and exercise habits, which have been shown to lower cancer risk. Our national strategy to end hunger seeks to provide healthy, free school meals to millions of kids; boost Medicaid and Medicare coverage for things like nutrition and obesity counseling; and make fruits and vegetables more affordable for low-income families.

Because detecting cancer early can increase survival, we urge all Americans to catch up on routine screening appointments they may have missed during the pandemic and to encourage loved ones to do the same. In the last year, the Centers for Disease Control and Prevention issued more than $200 million in grants to support cancer screening in every State, many United States territories, and Tribal Nations. The Department of Health and Human Services is helping community health centers improve access to early detection, too. To learn which screenings are right for you, talk to your health care provider, visit cdc.gov/cancerscreeningorcancer.gov/screeningtests, or call 1-800-4-CANCER.

The fight against cancer is personal to so many families, including ours. It is one of the reasons I ran for President. And it is something big that we can all do together. Cancer does not care if you are Republican or Democrat—we need everyone in the game. We need the scientific and medical communities, bringing their boldest thinking. We need the private sector, testing new treatments and sharing more knowledge. We need people living with cancer, survivors, caregivers, and families, whose absolute courage this work is all about. For the lives we can save and those we have lost, let this be a truly American moment that rallies the country and the world together to end cancer as we know it and to cure some cancers for good.

NOW, THEREFORE, I, JOSEPH R. BIDEN JR., President of the United States of America, do hereby proclaim April 2023 as National Cancer Control Month. I encourage citizens, government agencies, private businesses, nonprofit organizations, and other interested groups to join in activities that will increase awareness of what Americans can do to prevent, detect, treat, and control cancer.

IN WITNESS WHEREOF, I have hereunto set my hand this thirty-first day of March, in the year of our Lord two thousand twenty-three, and of the Independence of the United States of America the two hundred and forty-seventh.

[FR Doc. 2023-07310

Filed 4-4-23; 11:15 am]

Billing code 3395-F3-P